DEPARTMENT OF COMMERCE

Submission for OMB Review; Comment Request

The Department of Commerce will submit to the Office of Management and Budget (OMB) for clearance the following proposal for collection of information under the provisions of the Paperwork Reduction Act (44 U.S.C. chapter 35).

Agency U.S. Census Bureau.

Title: Generic Clearance for Questionnaire Pretesting Research.

Form Number(s): Various.

Agency Approval Number: 0607-0725.

Type of Request: Extension of a currently approved collection.

Burden Hours: 5,500.

Number of Respondents: 5,500.

Average Hours Per Response: 1 hour.

Needs and Uses: In recent years, there has been an increased interest among Federal agencies and others in the importance of testing questionnaires. In response to this recognition, new methods have come into popular use, which are useful for identifying questionnaire and procedural problems, suggesting solutions, and measuring the relative effectiveness of alternative solutions.

The Census Bureau received a generic clearance which enables it to quickly begin conducting extended cognitive and questionnaire design research as part of testing for its censuses and surveys. At this time, the Census Bureau is seeking another three-year renewal of the generic clearance for pretesting. This will enable the Census Bureau to continue providing support for pretesting activities, which is important given the length of time required to plan the activities.

The methods proposed for use in questionnaire development are as follows: Field test, Respondent debriefing questionnaire, Split sample experiments, Cognitive interviews, and Focus groups.

Since the types of surveys included under the umbrella of the clearance are so varied, it is impossible to specify at this point what kinds of activities would be involved in any particular test. But at a minimum, one of the types of testing described above or some other form of cognitive pretesting would be incorporated into the testing program for each survey.

We will provide OMB with a copy of questionnaires and debriefing materials in advance of any testing activity. Depending on the stage of questionnaire development, this may be the printed questionnaire from the last round of a survey or a revised draft based on analysis of other evaluation data. When the time schedule for a single survey permits multiple rounds of testing, the questionnaire(s) for each round will be provided separately. When split sample experiments are conducted, either in small group sessions or as part of a field test, all the questionnaires to be used will be provided. For a test of alternative procedures, the description and rationale for the procedures would be submitted. A brief description of the planned field activity will also be provided. Requests for information or comments on substantive issues may be raised by OMB within 10 working days of receipt.

The Census Bureau will send OMB an annual report at the end of each year summarizing the number of hours used, as well as the nature and results of the activities completed under this clearance.

The information collected in this program of developing and testing questionnaires will be used by staff from the Census Bureau and sponsoring agencies to evaluate and improve the quality of the data in the surveys and censuses that are ultimately conducted. None of the data collected under this clearance will be published for its own sake.

Because the questionnaires being tested under this clearance are still in the process of development, the data that result from these collections are not considered official statistics of the Census Bureau or other Federal agencies. Data will be included in research reports prepared for sponsors inside and outside of the Census Bureau. The results may also be prepared for presentations related to survey methodology at professional meetings or publications in professional journals.

Affected Public: Individuals or households, businesses or other for-profit organizations, farms.

Frequency: On occasion.

Respondent's Obligation: Voluntary.

Legal Authority: Authorizing legislation is based on the questionnaire being tested—Title 13, Sections 131, 141, 161, 181, 182, 193, and 301, for Census-Bureau sponsored surveys; and Title 13 and 15 for surveys sponsored by other Federal agencies.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: June 4, 2007.
Gwellnar Banks,
Management Analyst, Office of the Chief Information Officer.

[FR Doc. E7-11074 Filed 6-7-07; 8:45 am]

BILLING CODE 3510-07-P